DEPARTMENT OF VETERANS AFFAIRS

38 CFR Part 4

RIN 2900-AM60

Schedule for Rating Disabilities; Appendices A, B, and C

AGENCY: Department of Veterans Affairs.

ACTION: Final rule.

SUMMARY: The Department of Veterans Affairs (VA) is revising its Schedule for Rating Disabilities, Appendices A, B, and C to include all current diagnostic codes. Appendix A is also amended to include all the diagnostic code historical information since the last review.

DATES: Effective Date: This amendment is effective April 19, 2007.

FOR FURTHER INFORMATION CONTACT: Trude Steele, Regulations Staff (211D), Compensation and Pension Service, Veterans Benefits Administration, Department of Veterans Affairs, 810 Vermont Avenue, NW., Washington, DC 20420, (202) 273-7210.

SUPPLEMENTARY INFORMATION: The Schedule for Rating Disabilities, 38 CFR Part 4, Appendices A, B, and C have not been updated since July 1, 1988. These Appendices are tools for users of the Schedule for Rating Disabilities. The Appendices reflect changes to the diagnostic criteria in the Schedule for Rating Disabilities.

We have amended the Appendices to add changes to the Schedule for Rating Disabilities since the Appendices were last updated. Additionally, we removed language in Appendix A that showed when a diagnostic code was updated to correct spelling, revise text, or other additional changes, which had no impact on the disability code. Those changes were incorporated within the text when amended. All diagnostic codes in Appendix A will now be categorized by when they were added, removed, whether the criterion was amended, and whether the disability evaluation was amended. We will continue to include the date for historical purposes. We revised Appendices B and C to provide the current diagnostic codes and disability terminology. We will continue to update the Appendices as the Schedule for Rating Disabilities is revised.

Administrative Procedures Act

This final rule merely replaces inaccurate examples and does not alter the content of the regulations. Accordingly, there is a basis for dispensing with prior notice and comment and the delayed effective date provisions of 5 U.S.C. 553.

Paperwork Reduction Act

This document contains no provisions constituting a collection of information under the Paperwork Reduction Act (44 U.S.C. 3501-3521).

Regulatory Flexibility Act

The Secretary hereby certifies that this final rule will not have a significant economic impact on a substantial number of small entities as they are defined in the Regulatory Flexibility Act, 5 U.S.C. 601-612. This final rule would not affect any small entities. Only VA beneficiaries could be directly affected. Therefore, pursuant to 5 U.S.C. 605(b), this final rule is exempt from the initial and final regulatory flexibility analysis requirements of sections 603 and 604.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB) unless OMB waives such review, as any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in the Executive Order.

The economic, interagency, budgetary, legal, and policy implications of this final rule have been examined and it has been determined not to be a significant regulatory action under Executive Order 12866.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any year. This final rule would have no such effect on State, local, and tribal governments, or on the private sector.

Catalog of Federal Domestic Assistance Numbers and Titles

The Catalog of Federal Domestic Assistance program numbers and titles for this final are 64.104, Pension for Non-Service-Connected Disability for Veterans and 64.109, Veterans Compensation for Service-Connected Disability.

List of Subjects in 38 CFR Part 4

Disability benefits, Pensions, Veterans.

Approved: March 2, 2007
Gordon H. Mansfield,
Deputy Secretary of Veterans Affairs.

For the reasons set out in the preamble, 38 CFR part 4 is amended as set forth below:

PART 4—SCHEDULE FOR RATING DISABILITIES

1. The authority citation for part 4 continues to read as follows:

Authority: 38 U.S.C. 1155, unless otherwise noted.

2. Appendix A to Part 4 is revised to read as follows:

Appendix A to Part 4.—Table of Amendments and Effective Dates Since 1946
Sec. | Diagnostic code No. |
4.71a | 5000 | Evaluation February 1, 1962.
| 5001 | Evaluation March 11, 1969.
| 5002 | Evaluation March 1, 1963.
| 5003 | Added July 6, 1950.
| 5012 | Criterion March 10, 1976.
| 5024 | Criterion March 1, 1963.
| 5025 | Added May 7, 1996.
| 5051 | Added September 22, 1978.
| 5052 | Added September 22, 1978.
| 5053 | Added September 22, 1978.
| 5054 | Added September 22, 1978.
| 5055 | Added September 22, 1978.
| 5056 | Added September 22, 1978.
| 5100-5103 | Removed March 10, 1976.
| 5104 | Criterion March 10, 1976.
| 5105 | Criterion March 10, 1976.
| 5164 | Evaluation June 9, 1952.
| 5166 | Criterion September 22, 1978.
| 5172 | Added July 6, 1950.
| 5173 | Added June 9, 1952.
| 5174 | Added September 9, 1975; removed September 22, 1978.
| 5211 | Criterion September 22, 1978.
| 5212 | Criterion September 22, 1978.
| 5214 | Criterion September 22, 1978.
| 5216 | Preceding paragraph criterion September 22, 1978.
| 5217 | Criterion August 26, 2002.
| 5218 | Criterion August 26, 2002.
| 5219 | Criterion September 22, 1978; criterion August 26, 2002.
| 5220 | Preceding paragraph criterion September 22, 1978; criterion August 26, 2002.
| 5223 | Criterion August 26, 2002.
| 5224 | Criterion August 26, 2002.
| 5225 | Criterion August 26, 2002.
| 5226 | Criterion August 26, 2002.
| 5227 | Criterion September 22, 1978; criterion August 26, 2002.
| 5228 | Added August 26, 2002.
| 5229 | Added August 26, 2002.
| 5230 | Added August 26, 2002.
| 5235-5243 | Replaces 5285-5295 September 26, 2003.
| 5243 | Criterion September 26, 2003.
| 5255 | Criterion July 6, 1950.
| 5257 | Evaluation July 6, 1950.
| 5264 | Added September 9, 1795; removed September 22, 1978.
| 5275 | Criterion March 10, 1976; criterion September 22, 1978.
| 5285-5292 | Revised to 5235-5243 September 26, 2003.
| 5293 | Criterion March 10, 1976; criterion September 23, 2002; revised and moved to 5235-5243 September 26, 2003.
| 5294 | Evaluation March 10, 1976; revised and moved to 5235-5243 September 26, 2003.
| 5295 | Evaluation March 10, 1976; revised and moved to 5235-5243 September 26, 2003.
| 5296 | Criterion March 10, 1976.
| 5297 | Criterion August 23, 1948; criterion February 1, 1962.
| 5298 | Added August 23, 1948.
4.73 |  | Introduction NOTE criterion July 3, 1997.
| 5317 | Criterion September 22, 1978.
| 5324 | Added February 1, 1962.
| 5325 | Criterion July 3, 1997.
| 5327 | Added March 10, 1976; criterion October 15, 1991; criterion July 3, 1997.
| 5328 | Added NOTE March 10, 1976.
| 5329 | Added NOTE July 3, 1997.
4.84a |  | Table V criterion July 1, 1994.
| 6010 | Criterion March 11, 1969.
| 6019 | Criterion September 22, 1978.
| 6029 | NOTE August 23, 1948; criterion September 22, 1978.
| 6035 | Added September 9, 1975.
| 6050-6062 | Removed March 10, 1976.
| 6061 | Added March 10, 1976.
| 6062 | Added March 10, 1976.
| 6063-6079 | Criterion September 22, 1978.
| 6064 | Criterion March 10, 1976.
| 6071 | Criterion March 10, 1976.
| 6076 | Evaluation August 23, 1948.
| 6080 | Criterion September 22, 1978.
| 6081 | Criterion March 10, 1976.
| 6090 | Criterion September 22, 1978; criterion September 12, 1988.
4.84b | 6260 | Added October 1, 1961; criterion October 1, 1961; evaluation March 10, 1976; removed December 18, 1987; re-designated § 4.87a December 18, 1987.
4.87 |  | Tables VI and VII replaced by new Tables VI, VIA, and VII December 18, 1987. 6200-6260 revised and re-designated § 4.87 June 10, 1999.
4.87a | 6200-6260 | Moved to § 4.87 June 10, 1999.
| 6275-6276 | Moved from § 4.87b June 10, 1999.
| 6277-6297 | March 23, 1956 removed, December 17, 1987; Table II revised Table V March 10, 1976; Table II revised to Table VII September 22, 1978; text from § 4.84b Schedule of ratings-ear re-designated from § 4.87 December 17, 1987.
| 6286 | Removed December 17, 1987.
| 6291 | Criterion March 10, 1976; removed December 17, 1987.
| 6297 | Criterion March 10, 1976; removed December 17, 1987.
4.87b |  | Removed June 10, 1999.
4.88a |  | March 11, 1969; re-designated § 4.88b November 29, 1994; § 4.88a added to read “Chronic fatigue syndrome”; criterion November 29, 1994.
4.88b |  | Added March 11, 1969; re-designated § 4.88c November 29, 1994; § 4.88a re-designated to § 4.88b November 29, 1994.
| 6300 | Criterion August 30, 1996.
| 6302 | Criterion September 22, 1978; criterion August 30, 1996.
| 6304 | Evaluation August 30, 1996.
| 6305 | Criterion March 1, 1989; evaluation August 30, 1996.
| 6306 | Evaluation August 30, 1996.
| 6307 | Criterion August 30, 1996.
| 6308 | Criterion August 30, 1996.
| 6309 | Added March 1, 1963; criterion March 1, 1989; criterion August 30, 1996.
| 6314 | Evaluation March 1, 1989; evaluation August 30, 1996.
| 6315 | Criterion August 30, 1996.
| 6316 | Evaluation March 1, 1989; evaluation August 30, 1996.
| 6317 | Criterion August 30, 1996.
| 6318 | Added March 1, 1989; criterion August 30, 1996.
| 6319 | Added August 30, 1996.
| 6320 | Added August 30, 1996.
| 6350 | Evaluation March 1, 1963; evaluation March 10, 1976; evaluation August 30, 1996.
| 6351 | Added March 1, 1989; evaluation March 24, 1992; criterion August 30, 1996.
| 6352 | Added March 1, 1989; removed March 24, 1992.
| 6353 | Added March 1, 1989; removed March 24, 1992.
| 6354 | Added November 29, 1994; criterion August 30, 1996.
4.88c |  | Re-designated from § 4.88b November 29, 1994.
4.89 |  | Ratings for nonpulmonary TB December 1, 1949; criterion March 11, 1969.
4.97 | 6502 | Criterion October 7, 1996.
| 6504 | Criterion October 7, 1996.
| 6510-6514 | Criterion October 7, 1996.
| 6515 | Criterion March 11, 1969.
| 6516 | Criterion October 7, 1996.
| 6517 | Removed October 7, 1996.
| 6518 | Criterion October 7, 1996.
| 6519 | Criterion October 7, 1996.
| 6520 | Criterion October 7, 1996.
| 6521 | Added October 7, 1996.
| 6522 | Added October 7, 1996.
| 6523 | Added October 7, 1996.
| 6524 | Added October 7, 1996.
| 6600 | Evaluation September 9, 1975; criterion October 7, 1996.
| 6601 | Criterion October 7, 1996.
| 6602 | Criterion September 9, 1975; criterion October 7, 1996.
| 6603 | Added September 9, 1975; criterion October 7, 1996.
| 6604 | Added October 7, 1996.
| 6701 | Evaluation October 7, 1996.
| 6702 | Evaluation October 7, 1996.
| 6703 | Evaluation October 7, 1996.
| 6704 | Subparagraph (1) following December 1, 1949; criterion March 11, 1969; criterion September 22, 1978.
| 6705 | Removed March 11, 1969.
| 6707-6710 | Added March 11, 1969; removed September 22, 1978.
| 6721 | Criterion July 6, 1950; criterion September 22, 1978.
| 6724 | Second note following December 1, 1949; criterion March 11, 1969; evaluation October 7, 1996.
| 6725-6728 | Added March 11, 1969; removed September 22, 1978.
| 6730 | Added September 22, 1978; criterion October 7, 1996.
| 6731 | Evaluation September 22, 1978; criterion October 7, 1996.
| 6732 | Criterion March 11, 1969.
| 6800 | Criterion September 9, 1975; removed October 7, 1996.
| 6801 | Removed October 7, 1996.
| 6802 | Criterion September 9, 1975; removed October 7, 1996.
| 6810-6813 | Removed October 7, 1996.
| 6814 | Criterion March 10, 1976; removed October 7, 1996.
| 6815 | Removed October 7, 1996.
| 6816 | Removed October 7, 1996.
| 6817 | Evaluation October 7, 1996.
| 6818 | Removed October 7, 1996.
| 6819 | Criterion March 10, 1976; criterion October 7, 1996.
| 6821 | Evaluation August 23, 1948.
| 6822-6847 | Added October 7, 1996.
4.104 | 7000 | Evaluation July 6, 1950; evaluation September 22, 1978; evaluation January 12, 1998.
| 7001 | Evaluation January 12, 1998.
| 7002 | Evaluation January 12, 1998.
| 7003 | Evaluation January 12, 1998.
| 7004 | Criterion September 22, 1978; evaluation January 12, 1998.
| 7005 | Evaluation September 9, 1975; evaluation September 22, 1978; evaluation January 12, 1998.
| 7006 | Evaluation January 12, 1998.
| 7007 | Evaluation September 22, 1978; evaluation January 12, 1998.
| 7008 | Evaluation January 12, 1998.
| 7010 | Evaluation January 12, 1998.
| 7011 | Evaluation January 12, 1998.
| 7013 | Removed January 12, 1998.
| 7014 | Removed January 12, 1998.
| 7015 | Evaluation September 9, 1975; criterion January 12, 1998.
| 7016 | Added September 9, 1975; evaluation January 12, 1998.
| 7017 | Added September 22, 1978; evaluation January 12, 1998.
| 7018 | Added January 12, 1998.
| 7019 | Added January 12, 1998.
| 7020 | Added January 12, 1998.
| 7100 | Evaluation July 6, 1950.
| 7101 | Criterion September 1, 1960; criterion September 9, 1975; criterion January 12, 1998.
| 7110 | Evaluation September 9, 1975; evaluation January 12, 1998.
| 7111 | Criterion September 9, 1975; evaluation January 12, 1998.
| 7112 | Evaluation January 12, 1998.
| 7113 | Evaluation January 12, 1998.
| 7114 | Added June 9, 1952; evaluation January 12, 1998.
| 7115 | Added June 9, 1952; evaluation January 12, 1998.
| 7116 | Added June 9, 1952; evaluation March 10, 1976; removed January 12, 1998.
| 7117 | Added June 9, 1952; evaluation January 12, 1998.
| 7118 | Criterion January 12, 1998.
| 7119 | Evaluation January 12, 1998.
| 7120 | Note following July 6, 1950; evaluation January 12, 1998.
| 7121 | Criterion July 6, 1950; evaluation March 10, 1976; evaluation January 12, 1998.
| 7122 | Last sentence of Note following July 6, 1950; evaluation January 12, 1998; criterion August 13, 1998.
| 7123 | Added October 15, 1991; criterion January 12, 1998.
4.114 |  | Introduction paragraph revised March 10, 1976.
| 7304 | Evaluation November 1, 1962.
| 7305 | Evaluation November 1, 1962.
| 7308 | Evaluation April 8, 1959.
| 7311 | Criterion July 2, 2001.
| 7312 | Evaluation March 10, 1976; evaluation July 2, 2001.
| 7313 | Evaluation March 10, 1976; removed July 2, 2001.
| 7319 | Evaluation November 1, 1962.
| 7321 | Evaluation July 6, 1950; criterion March 10, 1976.
| 7328 | Evaluation November 1, 1962.
| 7329 | Evaluation November 1, 1962.
| 7330 | Evaluation November 1, 1962.
| 7331 | Criterion March 11, 1969.
| 7332 | Evaluation November 1, 1962.
| 7334 | Evaluation July 6, 1950; evaluation November 1, 1962.
| 7339 | Criterion March 10, 1976.
| 7341 | Removed March 10, 1976.
| 7343 | Criterion March 10, 1976; criterion July 2, 2001.
| 7344 | Criterion July 2, 2001.
| 7345 | Evaluation August 23, 1948; evaluation February 17, 1955; evaluation July 2, 2001.
| 7346 | Evaluation February 1, 1962.
| 7347 | Added September 9, 1975.
| 7348 | Added March 10, 1976.
| 7351 | Added July 2, 2001.
| 7354 | Added July 2, 2001.
4.115a |  | Re-designated and revised as § 4.115b; new § 4.115a “Ratings of the genitourinary system-dysfunctions” added February 17, 1994.
4.115b | 7500 | Note July 6, 1950; evaluation February 17, 1994, criterion September 8, 1994.
| 7501 | Evaluation February 17, 1994.
| 7502 | Evaluation February 17, 1994.
| 7503 | Removed February 17, 1994.
| 7504 | Criterion February 17, 1994.
| 7505 | Criterion March 11, 1969; evaluation February 17, 1994.
| 7507 | Criterion February 17, 1994.
| 7508 | Evaluation February 17, 1994.
| 7509 | Criterion February 17, 1994.
| 7510 | Evaluation February 17, 1994.
| 7511 | Evaluation February 17, 1994.
| 7512 | Evaluation February 17, 1994.
| 7513 | Removed February 17, 1994.
| 7514 | Criterion March 11, 1969; removed February 17, 1994.
| 7515 | Criterion February 17, 1994.
| 7516 | Criterion February 17, 1994.
| 7517 | Criterion February 17, 1994.
| 7518 | Evaluation February 17, 1994.
| 7519 | Evaluation March 10, 1976; evaluation February 17, 1994.
| 7520 | Criterion February 17, 1994.
| 7521 | Criterion February 17, 1994.
| 7522 | Criterion September 8, 1994.
| 7523 | Criterion September 8, 1994.
| 7524 | Note July 6, 1950; evaluation February 17, 1994; evaluation September 8, 1994.
| 7525 | Criterion March 11, 1969; evaluation February 17, 1994.
| 7526 | Removed February 17, 1994.
| 7527 | Criterion February 17, 1994.
| 7528 | Criterion March 10, 1976; criterion February 17, 1994.
| 7529 | Criterion February 17, 1994.
| 7530 | Added September 9, 1975; evaluation February 17, 1994.
| 7531 | Added September 9, 1975; criterion February 17, 1994.
| 7532-7542 | Added February 17, 1994.
4.116 |  | § 4.116 removed and § 4.116a re-designated § 4.116 “Schedule of ratings-gynecological conditions and disorders of the breasts” May 22, 1995.
| 7610 | Criterion May 22, 1995.
| 7611 | Criterion May 22, 1995.
| 7612 | Criterion May 22, 1995.
| 7613 | Criterion May 22, 1995.
| 7614 | Criterion May 22, 1995.
| 7615 | Criterion May 22, 1995.
| 7617 | Criterion May 22, 1995.
| 7618 | Criterion May 22, 1995.
| 7619 | Criterion May 22, 1995.
| 7620 | Criterion May 22, 1995.
| 7621 | Criterion May 22, 1995.
| 7622 | Evaluation May 22, 1995.
| 7623 | Evaluation May 22, 1995.
| 7624 | Criterion August 9, 1976; evaluation May 22, 1995.
| 7625 | Criterion August 9, 1976; evaluation May 22, 1995.
| 7626 | Criterion May 22, 1995; criterion March 18, 2002.
| 7627 | Criterion March 10, 1976; criterion May 22, 1995.
| 7628 | Added May 22, 1995.
| 7629 | Added May 22, 1995.
4.117 | 7700 | Evaluation October 23, 1995.
| 7701 | Removed October 23, 1995.
| 7702 | Evaluation October 23, 1995.
| 7703 | Evaluation August 23, 1948; criterion October 23, 1995.
| 7704 | Evaluation October 23, 1995.
| 7705 | Evaluation October 23, 1995.
| 7706 | Evaluation October 23, 1995.
| 7707 | Criterion October 23, 1995.
| 7709 | Evaluation March 10, 1976; criterion October 23, 1995.
| 7710 | Criterion October 23, 1995.
| 7711 | Criterion October 23, 1995.
| 7712 | Criterion October 23, 1995.
| 7713 | Removed October 23, 1995.
| 7714 | Added September 9, 1975; criterion October 23, 1995.
| 7715 | Added October 26, 1990.
| 7716 | Added October 23, 1995.
4.118 | 7800 | Evaluation August 30, 2002.
| 7801 | Criterion July 6, 1950; criterion August 30, 2002.
| 7802 | Criterion September 22, 1978; criterion August 30, 2002.
| 7803 | Criterion August 30, 2002.
| 7804 | Criterion July 6, 1950; criterion September 22, 1978; criterion August 30, 2002.
| 7806 | Criterion September 9, 1975; evaluation August 30, 2002.
| 7807 | Criterion August 30, 2002.
| 7808 | Criterion August 30, 2002.
| 7809 | Criterion August 30, 2002.
| 7810 | Removed August 30, 2002.
| 7811 | Criterion March 11, 1969; evaluation August 30, 2002.
| 7812 | Removed August 30, 2002.
| 7813 | Criterion August 30, 2002.
| 7814 | Removed August 30, 2002.
| 7815 | Evaluation August 30, 2002.
| 7816 | Evaluation August 30, 2002.
| 7817 | Evaluation August 30, 2002.
| 7818 | Criterion August 30, 2002.
| 7819 | Criterion August 30, 2002.
| 7820-7833 | Added August 30, 2002.
4.119 | 7900 | Criterion August 13, 1981; evaluation June 9, 1996.
| 7901 | Criterion August 13, 1981; evaluation June 9, 1996.
| 7902 | Evaluation August 13, 1981; criterion June 9, 1996.
| 7903 | Criterion August 13, 1981; evaluation June 9, 1996.
| 7904 | Criterion August 13, 1981; evaluation June 9, 1996.
| 7905 | Evaluation; August 13, 1981; evaluation June 9, 1996.
| 7907 | Evaluation August 13, 1981; evaluation June 9, 1996.
| 7908 | Criterion August 13, 1981; criterion June 9, 1996.
| 7909 | Evaluation August 13, 1981; criterion June 9, 1996.
| 7910 | Removed June 9, 1996.
| 7911 | Evaluation March 11, 1969; evaluation August 13, 1981; criterion June 9, 1996.
| 7913 | Criterion September 9, 1975; criterion August 13, 1981; criterion June 6, 1996.
| 7914 | Criterion March 10, 1976; criterion August 13, 1981; criterion June 9, 1996.
| 7916 | Added June 9, 1996.
| 7917 | Added June 9, 1996.
| 7918 | Added June 9, 1996.
| 7919 | Added June 9, 1996.
4.124a | 8002 | Criterion September 22, 1978.
| 8021 | Criterion September 22, 1978; criterion October 1, 1961; criterion March 10, 1976; criterion March 1, 1989.
| 8046 | Added October 1, 1961; criterion March 10, 1976; criterion March 1, 1989.
| 8100 | Evaluation June 9, 1953.
| 8540 | Added October 15, 1991.
| 8910 | Added October 1, 1961.
| 8911 | Added October 1, 1961; evaluation September 9, 1975.
| 8912 | Added October 1, 1961.
| 8913 | Added October 1, 1961.
| 8914 | Added October 1, 1961; criterion September 9, 1975; criterion March 10, 1976.
| 8910-8914 | Evaluations September 9, 1975.
4.125—4.132 |  | All Diagnostic Codes under Mental Disorders October 1, 1961; except as to evaluation for Diagnostic Codes 9500 through 9511 September 9, 1975.
4.130 |  | Re-designated from § 4.132 November 7, 1996.
| 9200 | Removed February 3, 1988.
| 9201 | Criterion February 3, 1988.
| 9202 | Criterion February 3, 1988.
| 9203 | Criterion February 3, 1988.
| 9204 | Criterion February 3, 1988.
| 9205 | Criterion February 3, 1988; criterion November 7, 1996.
| 9206 | Criterion February 3, 1988; removed November 7, 1996.
| 9207 | Criterion February 3, 1988; removed November 7, 1996.
| 9208 | Criterion February 3, 1988; removed November 7, 1996.
| 9209 | Criterion March 10, 1976; criterion February 3, 1988; removed November 7, 1996.
| 9210 | Criterion March 10, 1976; criterion February 3, 1988; criterion November 7, 1996.
| 9211 | Added November 7, 1996.
| 9300 | Criterion March 10, 1976; criterion February 3, 1988; criterion November 7, 1996.
| 9301 | Criterion March 10, 1976; criterion February 3, 1988; criterion November 7, 1996.
| 9302 | Criterion March 10, 1976; criterion February 3, 1988; removed November 7, 1996.
| 9303 | Criterion March 10, 1976; criterion February 3, 1988; removed November 7, 1996.
| 9304 | Criterion March 10, 1976; criterion February 3, 1988; criterion November 7, 1996.
| 9305 | Criterion March 10, 1976; criterion February 3, 1988; criterion November 7, 1996.
| 9306 | Criterion March 10, 1976; criterion February 3, 1988; removed November 7, 1996.
| 9307 | Criterion March 10, 1976; criterion February 3, 1988; removed November 7, 1996.
| 9308 | Criterion March 10, 1976; criterion February 3, 1988; removed November 7, 1996.
| 9309 | Criterion March 10, 1976; criterion February 3, 1988; removed November 7, 1996.
| 9310 | Criterion March 10, 1976; criterion February 3, 1988; criterion November 7, 1996.
| 9311 | Criterion March 10, 1976; criterion February 3, 1988; removed November 7, 1996.
| 9312 | Added March 10, 1976; criterion February 3, 1988; criterion November 7, 1996.
| 9313 | Added March 10, 1976; removed February 3, 1988.
| 9314 | Added March 10, 1976; removed February 3, 1988.
| 9315 | Added March 10, 1976; criterion February 3, 1988; removed November 7, 1996.
| 9316-9321 | Added March 10, 1976; removed February 3, 1988.
| 9322 | Added March 10, 1976; criterion February 3, 1988; removed November 7, 1996.
| 9323 | Added March 10, 1976; removed February 3, 1988.
| 9324 | Added March 10, 1976; criterion February 3, 1988; removed November 7, 1996.
| 9325 | Added March 10, 1976; criterion February 3, 1988; removed November 7, 1996.
| 9326 | Added March 10, 1976; removed February 3, 1988; added November 7, 1996.
| 9327 | Added November 7, 1996.
| 9400-9411 | Evaluations February 3, 1988.
| 9400 | Criterion March 10, 1976; criterion February 3, 1988.
| 9401 | Criterion March 10, 1976; criterion February 3, 1988; removed November 7, 1996.
| 9402 | Criterion March 10, 1976; criterion February 3, 1988; removed November 7, 1996.
| 9403 | Criterion March 10, 1976; criterion February 3, 1988; criterion February 3, 1988; criterion November 7, 1996.
| 9410 | Added March 10, 1976; criterion February 3, 1988.
| 9411 | Added February 3, 1988.
| 9412 | Added November 7, 1996.
| 9413 | Added November 7, 1996.
| 9416 | Added November 7, 1996.
| 9417 | Added November 7, 1996.
| 9421 | Added November 7, 1996.
| 9422 | Added November 7, 1996.
| 9423 | Added November 7, 1996.
| 9424 | Added November 7, 1996.
| 9425 | Added November 7, 1996.
| 9431 | Added November 7, 1996.
| 9432 | Added November 7, 1996.
| 9433 | Added November 7, 1996.
| 9434 | Added November 7, 1996.
| 9435 | Added November 7, 1996.
| 9440 | Added November 7, 1996.
| 9500 | Criterion March 10, 1976; criterion February 3, 1988.
| 9501 | Criterion March 10, 1976; criterion February 3, 1988.
| 9502 | Criterion March 10, 1976; criterion February 3, 1988.
| 9503 | Removed March 10, 1976.
| 9504 | Criterion September 9, 1975; removed March 10, 1976.
| 9505 | Added March 10, 1976; criterion February 3, 1988.
| 9506 | Added March 10, 1976; criterion February 3, 1988.
| 9507 | Added March 10, 1976; criterion February 3, 1988.
| 9508 | Added March 10, 1976; criterion February 3, 1988.
| 9509 | Added March 10, 1976; criterion February 3, 1988.
| 9510 | Added March 10, 1976; criterion February 3, 1988.
| 9511 | Added March 10, 1976; criterion February 3, 1988.
| 9520 | Added November 7, 1996.
| 9521 | Added November 7, 1996.
4.132 |  | Re-designated as § 4.130 November 7, 1996.
4.150 | 9900 | Criterion September 22, 1978; criterion February 17, 1994.
| 9901 | Criterion February 17, 1994.
| 9902 | Criterion February 17, 1994.
| 9903 | Criterion February 17, 1994.
| 9905 | Criterion September 22, 1978; evaluation February 17, 1994.
| 9910 | Removed February 17, 1994.
| 9913 | Criterion February 17, 1994.
| 9914 | Added February 17, 1994.
| 9915 | Added February 17, 1994.
| 9916 | Added February 17, 1994.

3. Appendix B to Part 4 is revised to read as follows:

Appendix B to Part 4.—Numerical Index of Disabilities
Diagnostic Code No. |
THE MUSCULOSKELETAL SYSTEM
Acute, Subacute, or Chronic Diseases
5000 | Osteomyelitis, acute, subacute, or chronic.
5001 | Bones and Joints, tuberculosis.
5002 | Arthritis, rheumatoid (atrophic).
5003 | Arthritis, degenerative (hypertrophic or osteoarthritis).
5004 | Arthritis, gonorrheal.
5005 | Arthritis, pneumococcic.
5006 | Arthritis, typhoid.
5007 | Arthritis, syphilitic.
5008 | Arthritis, streptococcic.
5009 | Arthritis, other types (specify).
5010 | Arthritis, due to trauma.
5011 | Bones, caisson disease.
5012 | Bones, new growths, malignant.
5013 | Osteoporosis, with joint manifestations.
5014 | Osteomalacia.
5015 | Bones, new growths, benign.
5016 | Osteitis deformans.
5017 | Gout.
5018 | Hydrarthrosis, intermittent.
5019 | Bursitis.
5020 | Synovitis.
5021 | Myositis.
5022 | Periostitis.
5023 | Myositis ossificans.
5024 | Tenosynovitis.
5025 | Fibromyalgia.
Prosthetic Implants
5051 | Shoulder replacement (prosthesis).
5052 | Elbow replacement (prosthesis).
5053 | Wrist replacement (prosthesis).
5054 | Hip replacement (prosthesis).
5055 | Knee replacement (prosthesis).
5056 | Ankle replacement (prosthesis).
Combination of Disabilities
5104 | Anatomical loss of one hand and loss of use of one foot.
5105 | Anatomical loss of one foot and loss of use of one hand.
5106 | Anatomical loss of both hands.
5107 | Anatomical loss of both feet.
5108 | Anatomical loss of one hand and one foot.
5109 | Loss of use of both hands.
5110 | Loss of use of both feet.
5111 | Loss of use of one hand and one foot.
Amputations: Upper Extremity
Arm amputation of:
5120 | Disarticulation.
5121 | Above insertion of deltoid.
5122 | Below insertion of deltoid.
Forearm amputation of:
5123 | Above insertion of pronator teres.
5124 | Below insertion of pronator teres.
5125 | Hand, loss of use of.
Multiple Finger Amputations
5126 | Five digits of one hand.
Four digits of one hand:
5127 | Thumb, index, long and ring.
5128 | Thumb, index, long and little.
5129 | Thumb, index, ring and little.
5130 | Thumb, long, ring and little.
5131 | Index, long, ring and little.
Three digits of one hand:
5132 | Thumb, index and long.
5133 | Thumb, index and ring.
5134 | Thumb, index and little.
5135 | Thumb, long and ring.
5136 | Thumb, long and little.
5137 | Thumb, ring and little.
5138 | Index, long and ring.
5139 | Index, long and little.
5140 | Index, ring and little.
5141 | Long, ring and little.
Two digits of one hand:
5142 | Thumb and index.
5143 | Thumb and long.
5144 | Thumb and ring.
5145 | Thumb and little.
5146 | Index and long.
5147 | Index and ring.
5148 | Index and little.
5149 | Long and ring.
5150 | Long and little.
5151 | Ring and little.
Single finger:
5152 | Thumb.
5153 | Index finger.
5154 | Long finger.
5155 | Ring finger.
5156 | Little finger.
Amputations: Lower Extremity
Thigh amputation of:
5160 | Disarticulation.
5161 | Upper third.
5162 | Middle or lower thirds.
Leg amputation of:
5163 | With defective stump.
5164 | Not improvable by prosthesis controlled by natural knee action.
5165 | At a lower level, permitting prosthesis.
5166 | Forefoot, proximal to metatarsal bones.
5167 | Foot, loss of use of.
5170 | Toes, all, without metatarsal loss.
5171 | Toe, great.
5172 | Toes, other than great, with removal of metatarsal head.
5173 | Toes, three or more, without metatarsal involvement.
Shoulder and Arm
5200 | Scapulohumeral articulation, ankylosis.
5201 | Arm, limitation of motion.
5202 | Humerus, other impairment.
5203 | Clavicle or scapula, impairment.
Elbow and Forearm
5205 | Elbow, ankylosis.
5206 | Forearm, limitation of flexion.
5207 | Forearm, limitation of extension.
5208 | Forearm, flexion limited.
5209 | Elbow, other impairment.
5210 | Radius and ulna, nonunion.
5211 | Ulna, impairment.
5212 | Radius, impairment.
5213 | Supination and pronation, impairment.
Wrist
5214 | Wrist, ankylosis.
5215 | Wrist, limitation of motion.
Limitation of Motion
Multiple Digits: Unfavorable Ankylosis:
5216 | Five digits of one hand.
5217 | Four digits of one hand.
5218 | Three digits of one hand.
5219 | Two digits of one hand.
Multiple Digits: Favorable Ankylosis:
5220 | Five digits of one hand.
5221 | Four digits of one hand.
5222 | Three digits of one hand.
5223 | Two digits of one hand.
Ankylosis of Individual Digits:
5224 | Thumb.
5225 | Index finger.
5226 | Long finger.
5227 | Ring or little finger.
Limitation of Motion of Individual Digits:
5228 | Thumb.
5229 | Index or long finger.
5230 | Ring or little finger.
Spine
5235 | Vertebral fracture or dislocation.
5236 | Sacroiliac injury and weakness.
5237 | Lumbosacral or cervical strain.
5238 | Spinal stenosis.
5239 | Spondylolisthesis or segmental instability.
5240 | Ankylosing spondylitis.
5241 | Spinal fusion.
5242 | Degenerative arthritis.
5243 | Intervertebral disc syndrome.
Hip and Thigh
5250 | Hip, ankylosis.
5251 | Thigh, limitation of extension.
5252 | Thigh, limitation of flexion.
5253 | Thigh, impairment.
5254 | Hip, flail joint.
5255 | Femur, impairment.
Knee and Leg
5256 | Knee, ankylosis.
5257 | Knee, other impairment.
5258 | Cartilage, semilunar, dislocated.
5259 | Cartilage, semilunar, removal.
5260 | Leg, limitation of flexion.
5261 | Leg, limitation of extension.
5262 | Tibia and fibula, impairment.
5263 | Genu recurvatum.
Ankle
5270 | Ankle, ankylosis.
5271 | Ankle, limited motion.
5272 | Subastragalar or tarsal joint, ankylosis.
5273 | Os calcis or astragalus, malunion.
5274 | Astragalectomy.
Shortening of the Lower Extremity
5275 | Bones, of the lower extremity
The Foot
5276 | Flatfoot, acquired.
5277 | Weak foot, bilateral.
5278 | Claw foot (pes cavus), acquired.
5279 | Metatarsalgia, anterior (Morton's disease).
5280 | Hallux valgus.
5281 | Hallux rigidus.
5282 | Hammer toe.
5283 | Tarsal or metatarsal bones.
5284 | Foot injuries, other.
The Skull
5296 | Loss of part of.
The Ribs
5297 | Removal of.
The Coccyx
5298 | Removal of.
MUSCLE INJURIES
Shoulder Girdle and Arm
5301 | Group I Function: Upward rotation of scapula.
5302 | Group II Function: Depression of arm.
5303 | Group III Function: Elevation and abduction of arm.
5304 | Group IV Function: Stabilization of shoulder.
5305 | Group V Function: Elbow supination.
5306 | Group VI Function: Extension of elbow.
Forearm and Hand
5307 | Group VII Function: Flexion of wrist and fingers.
5308 | Group VIII Function: Extension of wrist, fingers, thumb.
5309 | Group IX Function: Forearm muscles.
Foot and Leg
5310 | Group X Function: Movement of forefoot and toes.
5311 | Group XI Function: Propulsion of foot.
5312 | Group XII Function: Dorsiflexion.
Pelvic Girdle and Thigh
5313 | Group XIII Function: Extension of hip and flexion of knee.
5314 | Group XIV Function: Extension of knee.
5315 | Group XV Function: Adduction of hip.
5316 | Group XVI Function: Flexion of hip.
5317 | Group XVII Function: Extension of hip.
5318 | Group XVIII Function: Outward rotation of thigh.
Torso and Neck
5319 | Group XIX Function: Abdominal wall and lower thorax.
5320 | Group XX Function: Postural support of body.
5321 | Group XXI Function: Respiration.
5322 | Group XXII Function: Rotary and forward movements, head.
5323 | Group XXIII Function: Movements of head.
Miscellaneous
5324 | Diaphragm, rupture.
5325 | Muscle injury, facial muscles.
5326 | Muscle hernia.
5327 | Muscle, neoplasm of, malignant.
5328 | Muscle, neoplasm of, benign.
5329 | Sarcoma, soft tissue.
THE EYE
Diseases of the Eye
6000 | Uveitis.
6001 | Keratitis.
6002 | Scleritis.
6003 | Iritis.
6004 | Cyclitis.
6005 | Choroiditis.
6006 | Retinitis.
6007 | Hemorrhage, intra-ocular, recent.
6008 | Retina, detachment.
6009 | Eye, injury of, unhealed.
6010 | Eye, tuberculosis.
6011 | Retina, localized scars.
6012 | Glaucoma, congestive or inflammatory.
6013 | Glaucoma, simple, primary, noncongestive.
6014 | New growths, malignant, eyeball.
6015 | New growths, benign, eyeball and adnexa.
6016 | Nystagmus, central.
6017 | Conjunctivitis, trachomatous, chronic.
6018 | Conjunctivitis, other, chronic.
6019 | Ptosis unilateral or bilateral.
6020 | Ectropion.
6021 | Entropion.
6022 | Lagophthalmos.
6023 | Eyebrows, loss.
6024 | Eyelashes, loss.
6025 | Epiphora.
6026 | Neuritis, optic.
6027 | Cataract, traumatic.
6028 | Cataract, senile, and others.
6029 | Aphakia.
6030 | Accommodation, paralysis.
6031 | Dacryocystitis.
6032 | Eyelids, loss of portion.
6033 | Lens, crystalline, dislocation.
6034 | Pterygium.
6035 | Keratoconus.
Impairment of Central Visual Acuity
6061 | Anatomical loss both eyes.
6062 | Blindness, both eyes, only light perception.
Anatomical loss of 1 eye:
6063 | Other eye 5/200 (1.5/60).
6064 | Other eye 10/200 (3/60).
6064 | Other eye 15/200 (4.5/60).
6064 | Other eye 20/200 (6/60).
6065 | Other eye 20/100 (6/30).
6065 | Other eye 20/70 (6/21).
6065 | Other eye 20/50 (6/15).
6066 | Other eye 20/40 (6/12).
Blindness in 1 eye, only light perception:
6067 | Other eye 5/200 (1.5/60).
6068 | Other eye 10/200 (3/60).
6068 | Other eye 15/200 (4.5/60).
6068 | Other eye 20/200 (6/60).
6069 | Other eye 20/100 (6/30).
6069 | Other eye 20/70 (6/21).
6069 | Other eye 20/50 (6/15).
6070 | Other eye 20/40 (6/12).
Vision in 1 eye 5/200 (1.5/60):
6071 | Other eye 5/200 (1.5/60).
6072 | Other eye 10/200 (3/60).
6072 | Other eye 15/200 (4.5/60).
6072 | Other eye 20/200 (6/60).
6073 | Other eye 20/100 (6/30).
6073 | Other eye 20/70 (6/21).
6073 | Other eye 20/50 (6/15).
6074 | Other eye 20/40 (6/12).
Vision in 1 eye 10/200 (3/60):
6075 | Other eye 10/200 (3/60).
6075 | Other eye 15/200 (4.5/60).
6075 | Other eye 20/200 (6/60).
6076 | Other eye 20/100 (6/30).
6076 | Other eye 20/70 (6/21).
6076 | Other eye 20/50 (6/15).
6077 | Other eye 20/40 (6/12).
Vision in 1 eye 15/200 (4.5/60):
6075 | Other eye 15/200 (4.5/60).
6075 | Other eye 20/200 (6/60).
6076 | Other eye 20/100 (6/30).
6076 | Other eye 20/70 (6/21).
6076 | Other eye 20/50 (6/15).
6077 | Other eye 20/40 (6/12).
Vision in 1 eye 20/200 (6/60):
6075 | Other eye 20/200 (6/60).
6076 | Other eye 20/100 (6/30).
6076 | Other eye 20/70 (6/21).
6076 | Other eye 20/50 (6/15).
6077 | Other eye 20/40 (6/12).
Vision in 1 eye 20/100 (6/30):
6078 | Other eye 20/100 (6/30).
6078 | Other eye 20/70 (6/21).
6078 | Other eye 20/50 (6/15).
6079 | Other eye 20/40 (6/12).
Vision in 1 eye 20/70 (6/21):
6078 | Other eye 20/70 (6/21).
6078 | Other eye 20/50 (6/15).
6079 | Other eye 20/40 (6/12).
Vision in 1 eye 20/50 (6/15):
6078 | Other eye 20/50 (6/15).
6079 | Other eye 20/40 (6/12).
Impairment of Field Vision:
6080 | Field vision, impairment.
6081 | Scotoma.
Impairment of Muscle Function:
6090 | Diplopia.
6091 | Symblepharon.
6092 | Diplopia, limited muscle function.
THE EAR
6200 | Chronic suppurative otitis media.
6201 | Chronic nonsuppurative otitis media.
6202 | Otosclerosis.
6204 | Peripheral vestibular disorders.
6205 | Meniere's syndrome.
6207 | Loss of auricle.
6208 | Malignant neoplasm.
6209 | Benign neoplasm.
6210 | Chronic otitis externa.
6211 | Tympanic membrane.
6260 | Tinnitus, recurrent.
OTHER SENSE ORGANS
6275 | Smell, complete loss.
6276 | Taste, complete loss.
INFECTIOUS DISEASES, IMMUNE DISORDERS AND NUTRITIONAL DEFICIENCIES
6300 | Cholera, Asiatic.
6301 | Visceral Leishmaniasis.
6302 | Leprosy (Hansen's Disease).
6304 | Malaria.
6305 | Lymphatic Filariasis.
6306 | Bartonellosis.
6307 | Plague.
6308 | Relapsing fever.
6309 | Rheumatic fever.
6310 | Syphilis.
6311 | Tuberculosis, miliary.
6313 | Avitaminosis.
6314 | Beriberi.
6315 | Pellagra.
6316 | Brucellosis.
6317 | Typhus, scrub.
6318 | Melioidosis.
6319 | Lyme disease.
6320 | Parasitic diseases.
6350 | Lupus erythematosus.
6351 | HIV-Related Illness.
6354 | Chronic Fatigue Syndrome (CFS).
THE RESPIRATORY SYSTEM
Nose and Throat
6502 | Septum, nasal, deviation.
6504 | Nose, loss of part of, or scars.
6510 | Sinusitis, pansinusitis, chronic.
6511 | Sinusitis, ethmoid, chronic.
6512 | Sinusitis, frontal, chronic.
6513 | Sinusitis, maxillary, chronic.
6514 | Sinusitis, sphenoid, chronic.
6515 | Laryngitis, tuberculous.
6516 | Laryngitis, chronic.
6518 | Laryngectomy, total.
6519 | Aphonia, complete organic.
6520 | Larynx, stenosis of.
6521 | Pharynx, injuries to.
6522 | Allergic or vasomotor rhinitis.
6523 | Bacterial rhinitis.
6524 | Granulomatous rhinitis.
Trachea and Bronchi
6600 | Bronchitis, chronic.
6601 | Bronchiectasis.
6602 | Asthma, bronchial.
6603 | Emphysema, pulmonary.
6604 | Chronic obstructive pulmonary disease.
Lungs and Pleura Tuberculosis
Ratings for Pulmonary Tuberculosis (Chronic) Entitled on August 19, 1968:
6701 | Active, far advanced.
6702 | Active, moderately advanced.
6703 | Active, minimal.
6704 | Active, advancement unspecified.
6721 | Inactive, far advanced.
6722 | Inactive, moderately advanced.
6723 | Inactive, minimal.
6724 | Inactive, advancement unspecified.
Ratings for Pulmonary Tuberculosis Initially Evaluated After August 19, 1968:
6730 | Chronic, active.
6731 | Chronic, inactive.
6732 | Pleurisy, active or inactive.
Nontuberculous Diseases
6817 | Pulmonary Vascular Disease.
6819 | Neoplasms, malignant.
6820 | Neoplasms, benign.
Bacterial Infections of the Lung
6822 | Actinomycosis.
6823 | Nocardiosis.
6824 | Chronic lung abscess.
Interstitial Lung Disease
6825 | Fibrosis of lung, diffuse interstitial.
6826 | Desquamative interstitial pneumonitis.
6827 | Pulmonary alveolar proteinosis.
6828 | Eosinophilic granuloma.
6829 | Drug-induced, pneumonitis & fibrosis.
6830 | Radiation-induced, pneumonitis & fibrosis.
6831 | Hypersensitivity pneumonitis.
6832 | Pneumoconiosis.
6833 | Asbestosis.
Mycotic Lung Disease
6834 | Histoplasmosis.
6835 | Coccidioidomycosis.
6836 | Blastomycosis.
6837 | Cryptococcosis.
6838 | Aspergillosis.
6839 | Mucormycosis.
Restrictive Lung Disease
6840 | Diaphragm paralysis or paresis.
6841 | Spinal cord injury with respiratory insufficiency.
6842 | Kyphoscoliosis, pectus excavatum/carinatum.
6843 | Traumatic chest wall defect.
6844 | Post-surgical residual.
6845 | Pleural effusion or fibrosis.
6846 | Sarcoidosis.
6847 | Sleep Apnea Syndromes.
THE CARDIOVASCULAR SYSTEM
Diseases of the Heart
7000 | Valvular heart disease.
7001 | Endocarditis.
7002 | Pericarditis.
7003 | Pericardial adhesions.
7004 | Syphilitic heart disease.
7005 | Arteriosclerotic heart disease.
7006 | Myocardial infarction.
7007 | Hypertensive heart disease.
7008 | Hyperthyroid heart disease.
7010 | Supraventricular arrhythmias.
7011 | Ventricular arrhythmias.
7015 | Atrioventricular block.
7016 | Heart valve replacement.
7017 | Coronary bypass surgery.
7018 | Implantable cardiac pacemakers.
7019 | Cardiac transplantation.
7020 | Cardiomyopathy.
Diseases of the Arteries and Veins
7101 | Hypertensive vascular disease.
7110 | Aortic aneurysm.
7111 | Aneurysm, large artery.
7112 | Aneurysm, small artery.
7113 | Arteriovenous fistula, traumatic.
7114 | Arteriosclerosis obliterans.
7115 | Thrombo-angiitis obliterans (Buerger's Disease).
7117 | Raynaud's syndrome.
7118 | Angioneurotic edema.
7119 | Erythromelalgia.
7120 | Varicose veins.
7121 | Post-phlebitic syndrome.
7122 | Cold injury residuals.
7123 | Soft tissue sarcoma.
THE DIGESTIVE SYSTEM
7200 | Mouth, injuries.
7201 | Lips, injuries.
7202 | Tongue, loss.
7203 | Esophagus, stricture.
7204 | Esophagus, spasm.
7205 | Esophagus, diverticulum.
7301 | Peritoneum, adhesions.
7304 | Ulcer, gastric.
7305 | Ulcer, duodenal.
7306 | Ulcer, marginal.
7307 | Gastritis, hypertrophic.
7308 | Postgastrectomy syndromes.
7309 | Stomach, stenosis.
7310 | Stomach, injury of, residuals.
7311 | Liver, injury of, residuals.
7312 | Liver, cirrhosis.
7314 | Cholecystitis, chronic.
7315 | Cholelithiasis, chronic.
7316 | Cholangitis, chronic.
7317 | Gall bladder, injury.
7318 | Gall bladder, removal.
7319 | Colon, irritable syndrome.
7321 | Amebiasis.
7322 | Dysentery, bacillary.
7323 | Colitis, ulcerative.
7324 | Distomiasis, intestinal or hepatic.
7325 | Enteritis, chronic.
7326 | Enterocolitis, chronic.
7327 | Diverticulitis.
7328 | Intestine, small, resection.
7329 | Intestine, large, resection.
7330 | Intestine, fistula.
7331 | Peritonitis.
7332 | Rectum & anus, impairment.
7333 | Rectum & anus, stricture.
7334 | Rectum, prolapse.
7335 | Ano, fistula in.
7336 | Hemorrhoids.
7337 | Pruritus ani.
7338 | Hernia, inguinal.
7339 | Hernia, ventral, postoperative.
7340 | Hernia, femoral.
7342 | Visceroptosis.
7343 | Neoplasms, malignant.
7344 | Neoplasms, benign.
7345 | Liver disease, chronic, without cirrhosis.
7346 | Hernia, hiatal.
7347 | Pancreatitis.
7348 | Vagotomy.
7351 | Liver transplant.
7354 | Hepatitis C.
THE GENITOURINARY SYSTEM
7500 | Kidney, removal.
7501 | Kidney, abscess.
7502 | Nephritis, chronic.
7504 | Pyelonephritis, chronic.
7505 | Kidney, tuberculosis.
7507 | Nephrosclerosis, arteriolar.
7508 | Nephrolithiasis.
7509 | Hydronephrosis.
7510 | Ureterolithiasis.
7511 | Ureter, stricture.
7512 | Cystitis, chronic.
7515 | Bladder, calculus.
7516 | Bladder, fistula.
7517 | Bladder, injury.
7518 | Urethra, stricture.
7519 | Urethra, fistula.
7520 | Penis, removal of half or more.
7521 | Penis, removal of glans.
7522 | Penis, deformity, with loss of erectile power.
7523 | Testis, atrophy, complete.
7524 | Testis, removal.
7525 | Epididymo-orchitis, chronic only.
7527 | Prostate gland.
7528 | Malignant neoplasms.
7529 | Benign neoplasms.
7530 | Renal disease, chronic.
7531 | Kidney transplant.
7532 | Renal tubular disorders.
7533 | Kidneys, cystic diseases.
7534 | Atherosclerotic renal disease.
7535 | Toxic nephropathy.
7536 | Glomerulonephritis.
7537 | Interstitial nephritis.
7538 | Papillary necrosis.
7539 | Renal amyloid disease.
7540 | Disseminated intravascular coagulation.
7541 | Renal involvement in systemic diseases.
7542 | Neurogenic bladder.
GYNECOLOGICAL CONDITIONS AND DISORDERS OF THE BREAST
7610 | Vulva, disease or injury.
7611 | Vagina, disease or injury.
7612 | Cervix, disease or injury.
7613 | Uterus, disease or injury.
7614 | Fallopian tube, disease or injury.
7615 | Ovary, disease or injury.
7617 | Uterus and both ovaries, removal.
7618 | Uterus, removal.
7619 | Ovary, removal.
7620 | Ovaries, atrophy of both.
7621 | Uterus, prolapse.
7622 | Uterus, displacement.
7623 | Pregnancy, surgical complications.
7624 | Fistula, rectovaginal.
7625 | Fistula, urethrovaginal.
7626 | Breast, surgery.
7627 | Malignant neoplasms.
7628 | Benign neoplasms.
7629 | Endometriosis.
THE HEMIC AND LYMPHATIC SYSTEMS
7700 | Anemia.
7702 | Agranulocytosis, acute.
7703 | Leukemia.
7704 | Polycythemia vera.
7705 | Thrombocytopenia.
7706 | Splenectomy.
7707 | Spleen, injury of, healed.
7709 | Hodgkin's disease.
7710 | Adenitis, tuberculous.
7714 | Sickle cell anemia.
7715 | Non-Hodgkin's lymphoma.
7716 | Aplastic anemia.
THE SKIN
7800 | Disfigurement of, head, face or neck.
7801 | Scars, deep, other than head, face or neck.
7802 | Scars, superficial, other than head, face, or neck.
7803 | Scars, superficial, unstable.
7804 | Scars, superficial, painful.
7805 | Scars, other.
7806 | Dermatitis or eczema.
7807 | Leishmaniasis, American (New World).
7808 | Leishmaniasis, Old World.
7809 | Lupus erythematosus, discoid.
7811 | Tuberculosis luposa (lupus vulgaris).
7813 | Dermatophytosis.
7815 | Bullous disorders.
7816 | Psoriasis.
7817 | Exfoliative dermatitis.
7818 | Malignant skin neoplasms.
7819 | Benign skin neoplasms.
7820 | Infections of the skin.
7821 | Cutaneous manifestations of collagen-vascular diseases.
7822 | Papulosquamous disorders.
7823 | Vitiligo.
7824 | Keratinization, diseases.
7825 | Urticaria.
7826 | Vasculitis, primary cutaneous.
7827 | Erythema multiforme.
7828 | Acne.
7829 | Chloracne.
7830 | Scarring alopecia.
7831 | Alopecia areata.
7832 | Hyperhidrosis.
7833 | Malignant melanoma.
THE ENDOCRINE SYSTEM
7900 | Hyperthyroidism.
7901 | Thyroid gland, toxic adenoma.
7902 | Thyroid gland, nontoxic adenoma.
7903 | Hypothyroidism.
7904 | Hyperparathyroidism.
7905 | Hypoparathyroidism.
7907 | Cushing's syndrome.
7908 | Acromegaly.
7909 | Diabetes insipidus.
7911 | Addison's disease.
7912 | Pluriglandular syndrome.
7913 | Diabetes mellitus.
7914 | Malignant neoplasm.
7915 | Benign neoplasm.
7916 | Hyperpituitarism.
7917 | Hyperaldosteronism.
7918 | Pheochromocytoma.
7919 | C-cell hyperplasia, thyroid.
NEUROLOGICAL CONDITIONS AND CONVULSIVE DISORDERS
Organic Diseases of the Central Nervous System
8000 | Encephalitis, epidemic, chronic.
Brain, New Growth of
8002 | Malignant.
8003 | Benign.
8004 | Paralysis agitans.
8005 | Bulbar palsy.
8007 | Brain, vessels, embolism.
8008 | Brain, vessels, thrombosis.
8009 | Brain, vessels, hemorrhage.
8010 | Myelitis.
8011 | Poliomyelitis, anterior.
8012 | Hematomyelia.
8013 | Syphilis, cerebrospinal.
8014 | Syphilis, meningovascular.
8015 | Tabes dorsalis.
8017 | Amyotrophic lateral sclerosis.
8018 | Multiple sclerosis.
8019 | Meningitis, cerebrospinal, epidemic.
8020 | Brain, abscess.
Spinal Cord, New Growths
8021 | Malignant.
8022 | Benign.
8023 | Progressive muscular atrophy.
8024 | Syringomyelia.
8025 | Myasthenia gravis.
8045 | Brain disease due to trauma.
8046 | Cerebral arteriosclerosis.
Miscellaneous Diseases
8100 | Migraine
8103 | Tic, convulsive.
8104 | Paramyoclonus multiplex.
8105 | Chorea, Sydenham's.
8106 | Chorea, Huntington's.
8107 | Athetosis, acquired.
8108 | Narcolepsy.
The Cranial Nerves
8205 | Fifth (trigeminal), paralysis.
8207 | Seventh (facial), paralysis.
8209 | Ninth (glossopharyngeal), paralysis.
8210 | Tenth (pneumogastric, vagus), paralysis.
8211 | Eleventh (spinal accessory, external branch), paralysis.
8212 | Twelfth (hypoglossal), paralysis.
8305 | Neuritis, fifth cranial nerve.
8307 | Neuritis, seventh cranial nerve.
8309 | Neuritis, ninth cranial nerve.
8310 | Neuritis, tenth cranial nerve.
8311 | Neuritis, eleventh cranial nerve.
8312 | Neuritis, twelfth cranial nerve.
8405 | Neuralgia, fifth cranial nerve.
8407 | Neuralgia, seventh cranial nerve.
8409 | Neuralgia, ninth cranial nerve.
8410 | Neuralgia, tenth cranial nerve.
8411 | Neuralgia, eleventh cranial nerve.
8412 | Neuralgia, twelfth cranial nerve.
Peripheral Nerves
8510 | Upper radicular group, paralysis.
8511 | Middle radicular group, paralysis.
8512 | Lower radicular group, paralysis.
8513 | All radicular groups, paralysis.
8514 | Musculospiral nerve (radial), paralysis.
8515 | Median nerve, paralysis.
8516 | Ulnar nerve, paralysis.
8517 | Musculocutaneous nerve, paralysis.
8518 | Circumflex nerve, paralysis.
8519 | Long thoracic nerve, paralysis.
8520 | Sciatic nerve, paralysis.
8521 | External popliteal nerve (common peroneal), paralysis.
8522 | Musculocutaneous nerve (superficial peroneal), paralysis.
8523 | Anterior tibial nerve (deep peroneal), paralysis.
8524 | Internal popliteal nerve (tibial), paralysis.
8525 | Posterior tibial nerve, paralysis.
8526 | Anterior crural nerve (femoral), paralysis.
8527 | Internal saphenous nerve, paralysis.
8528 | Obturator nerve, paralysis.
8529 | External cutaneous nerve of thigh, paralysis.
8530 | Ilio-inguinal nerve, paralysis.
8540 | Soft-tissue sarcoma (Neurogenic origin).
8610 | Neuritis, upper radicular group.
8611 | Neuritis, middle radicular group.
8612 | Neuritis, lower radicular group.
8613 | Neuritis, all radicular group.
8614 | Neuritis, musculospiral (radial) nerve.
8615 | Neuritis, median nerve.
8616 | Neuritis, ulnar nerve.
8617 | Neuritis, musculocutaneous nerve.
8618 | Neuritis, circumflex nerve.
8619 | Neuritis, long thoracic nerve.
8620 | Neuritis, sciatic nerve.
8621 | Neuritis, external popliteal (common peroneal) nerve.
8622 | Neuritis, musculocutaneous (superficial peroneal) nerve.
8623 | Neuritis, anterior tibial (deep peroneal) nerve.
8624 | Neuritis, internal popliteal (tibial) nerve.
8625 | Neuritis, posterior tibial nerve.
8626 | Neuritis, anterior crural (femoral) nerve.
8627 | Neuritis, internal saphenous nerve.
8628 | Neuritis, obturator nerve.
8629 | Neuritis, external cutaneous nerve of thigh.
8630 | Neuritis, ilio-inguinal nerve.
8710 | Neuralgia, upper radicular group.
8711 | Neuralgia, middle radicular group.
8712 | Neuralgia, lower radicular group.
8713 | Neuralgia, all radicular groups.
8714 | Neuralgia, musculospiral nerve (radial).
8715 | Neuralgia, median nerve.
8716 | Neuralgia, ulnar nerve.
8717 | Neuralgia, musculocutaneous nerve.
8718 | Neuralgia, circumflex nerve.
8719 | Neuralgia, long thoracic nerve.
8720 | Neuralgia, sciatic nerve.
8721 | Neuralgia, external popliteal nerve (common peroneal).
8722 | Neuralgia, musculocutaneous nerve (superficial peroneal).
8723 | Neuralgia, anterior tibial nerve (deep peroneal).
8724 | Neuralgia, internal popliteal nerve (tibial).
8725 | Neuralgia, posterior tibial nerve.
8726 | Neuralgia, anterior crural nerve (femoral).
8727 | Neuralgia, internal saphenous nerve.
8728 | Neuralgia, obturator nerve.
8729 | Neuralgia, external cutaneous nerve of thigh.
8730 | Neuralgia, ilio-inguinal nerve.
The Epilepsies
8910 | Grand mal.
8911 | Petit mal.
8912 | Jacksonian and focal motor or sensory.
8913 | Diencephalic.
8914 | Psychomotor.
Mental Disorders
9201 | Schizophrenia, disorganized type.
9202 | Schizophrenia, catatonic type.
9203 | Schizophrenia, paranoid type.
9204 | Schizophrenia, undifferentiated type.
9205 | Schizophrenia, residual type.
9208 | Delusional disorder.
9210 | Psychotic disorder.
9211 | Schizoaffective disorder.
Delirium, Dementia, Amnestic and Other Cognitive Disorders
9300 | Delirium.
9301 | Dementia due to infection.
9304 | Dementia due to head trauma.
9305 | Vascular dementia.
9310 | Dementia of unknown etiology.
9312 | Dementia of Alzheimer's type.
9326 | Dementia due to other medical conditions.
9327 | Organic mental disorder.
Anxiety Disorders
9400 | Generalized anxiety disorder.
9403 | Specific (simple) phobia.
9404 | Obsessive compulsive disorder.
9410 | Other and unspecified neurosis.
9411 | Post-traumatic stress disorder.
9412 | Panic disorder.
9413 | Anxiety disorder, not otherwise specified.
Dissociative Disorder
9416 | Amnesia, fugue, identity disorder.
9417 | Depersonalization disorder.
Somatoform Disorders
9421 | Somatization disorder.
9422 | Pain disorder.
9423 | Undifferentiated somatoform disorder.
9424 | Conversion disorder.
9425 | Hypochondriasis.
Mood Disorders
9431 | Cyclothymic disorder.
9432 | Bipolar disorder.
9433 | Dysthymic disorder.
9434 | Major depressive disorder.
9435 | Mood disorder not otherwise specified.
Chronic Adjustment Disorder
9440 | Chronic adjustment disorder.
Eating Disorders
9520 | Anorexia nervosa.
9521 | Bulimia nervosa.
DENTAL AND ORAL CONDITIONS
9900 | Maxilla or mandible, chronic.
9901 | Mandible, loss of, complete.
9902 | Mandible, loss of approximately one-half.
9903 | Mandible, nonunion.
9904 | Mandible, malunion.
9905 | Temporomandibular articulation, limited motion.
9906 | Ramus, loss of whole or part.
9907 | Ramus, loss of less than one-half.
9908 | Condyloid process.
9909 | Coronoid process.
9911 | Hard palate, loss of half or more.
9912 | Hard palate, loss of less than half.
9913 | Teeth, loss of.
9914 | Maxilla, loss of more than half.
9915 | Maxilla, loss of half or less.
9916 | Maxilla, malunion or nonunion of.

4. Appendix C to part 4 is revised to read as follows:

Appendix C to Part 4.—Alphabetical Index of Disabilities
| Diagnostic code No.
Abscess:
Brain | 8020
Kidney | 7501
Lung | 6824
Acne | 7828
Acromegaly | 7908
Actinomycosis | 6822
Addison's disease | 7911
Agranulocytosis | 7702
Alopecia areata | 7831
Amebiasis | 7321
Amputation:
Arm:
Disarticulation | 5120
Above insertion of deltoid | 5121
Below insertion of deltoid | 5122
Digits, five of one hand | 5126
Digits, four of one hand:
Thumb, index, long and ring | 5127
Thumb, index, long and little | 5128
Thumb, index, ring and little | 5129
Thumb, long, ring and little | 5130
Index, long, ring and little | 5131
Digits, three of one hand:
Thumb, index and long | 5132
Thumb, index and ring | 5133
Thumb, index and little | 5134
Thumb, long and ring | 5135
Thumb, long and little | 5136
Thumb, ring and little | 5137
Index, long and ring | 5138
Index, long and little | 5139
Index, ring and little | 5140
Long, ring and little | 5141
Digits, two of one hand:
Thumb and index | 5142
Thumb and long | 5143
Thumb and ring | 5144
Thumb and little | 5145
Index and long | 5146
Index and ring | 5147
Index and little | 5148
Long and ring | 5149
Long and little | 5150
Ring and little | 5151
Single finger:
Thumb | 5152
Index finger | 5153
Long finger | 5154
Ring finger | 5155
Little finger | 5156
Forearm:
Above insertion of pronator teres | 5123
Below insertion of pronator teres | 5124
Leg:
With defective stump | 5163
Not improvable by prosthesis controlled by natural knee action | 5164
At a lower level, permitting prosthesis | 5165
Forefoot, proximal to metatarsal bones | 5166
Toes, all, without metatarsal loss | 5170
Toe, great | 5171
Toes, other than great, with removal of metatarsal head | 5172
Toes, three or more, without metatarsal involvement | 5173
Thigh:
Disarticulation | 5160
Upper third | 5161
Middle or lower thirds | 5162
Amyotrophic lateral sclerosis | 8017
Anatomical loss of:
Both eyes | 6061
One eye, with visual acuity of other eye:
5/200 (1.5/60) | 6063
10/200 (3/60); 15/200 (4.5/60); 20/200 (6/60) | 6064
20/100 (6/30); 20/70 (6/21); 20/50 (6/15) | 6065
20/40 (6/12) | 6066
Both feet | 5107
Both hands | 5106
One hand and one foot | 5108
One foot and loss of use of one hand | 5105
One hand and loss of use of one foot | 5104
Anemia | 7700
Aneurysm:
Aortic | 7110
Large artery | 7111
Small artery | 7112
Angioneurotic edema | 7118
Ankylosis:
Ankle | 5270
Digits, individual:
Thumb | 5224
Index finger | 5225
Long finger | 5226
Ring or little finger | 5227
Elbow | 5205
Hand
Favorable:
Five digits of one hand | 5220
Four digits of one hand | 5221
Three digits of one hand | 5222
Two digits of one hand | 5223
Unfavorable:
Five digits of one hand | 5216
Four digits of one hand | 5217
Three digits of one hand | 5218
Two digits of one hand | 5219
Hip | 5250
Knee | 5256
Scapulohumeral articulation | 5200
Subastragalar or tarsal joint | 5272
Wrist | 5214
Ankylosing spondylitis | 5240
Aphakia | 6029
Aphonia, organic | 6519
Aplastic anemia | 7716
Arrhythmia:
Supraventricular | 7010
Ventricular | 7011
Arteriosclerosis obliterans | 7114
Arteriosclerotic heart disease | 7005
Arteriovenous fistula | 7113
Arthritis:
Degenerative (hypertrophic or osteoarthritis) | 5003
Due to trauma | 5010
Gonorrheal | 5004
Other types | 5009
Pneumococcic | 5005
Rheumatoid (atrophic) | 5002
Streptococcic | 5008
Syphilitic | 5007
Typhoid | 5006
Asbestosis | 6833
Aspergillosis | 6838
Asthma, bronchial | 6602
Astragalectomy | 5274
Atherosclerotic renal disease | 7534
Athetosis | 8107
Atrioventricular block | 7015
Avitaminosis | 6313
Bartonellosis | 6306
Beriberi | 6314
Bladder:
Calculus in | 7515
Fistula in | 7516
Injury of | 7517
Neurogenic | 7542
Blastomycosis | 6836
Blindness: see also Vision and Anatomical Loss
Both eyes, only light perception | 6062
One eye, only light perception and other eye:
5/200 (1.5/60) | 6067
10/200 (3/60); 15/200 (4.5/60); 20/200 (6/60) | 6068
20/100 (6/30); 20/70 (6/21); 20/50 (6/15) | 6069
20/40 (6/12) | 6070
Bones:
Caisson disease | 5011
New growths, benign | 5015
New growths, malignant | 5012
Shortening of the lower extremity | 5275
Brain:
Abscess | 8020
Disease due to trauma | 8045
Breast surgery | 7626
Bronchiectasis | 6601
Bronchitis | 6600
Brucellosis | 6316
Buerger's disease | 7115
Bulbar palsy | 8005
Bullous disorders | 7815
Bursitis | 5019
Cardiac:
Pacemakers, implantable | 7018
Transplantation | 7019
Cardiomyopathy | 7020
C-cell hyperplasia, thyroid | 7919
Cataract:
Senile and others | 6028
Traumatic | 6027
Cerebral arteriosclerosis | 8046
Cervical strain | 5237
Cervix disease or injury | 7612
Chorea:
Huntington's | 8106
Sydenham's | 8105
Chloracne | 7829
Cholangitis, chronic | 7316
Cholecystitis, chronic | 7314
Cholelithiasis, chronic | 7315
Cholera, Asiatic | 6300
Choroiditis | 6005
Chronic Fatigue Syndrome (CFS) | 6354
Chronic lung abscess | 6824
Chronic obstructive pulmonary disease | 6604
Coccidioidomycosis | 6835
Cold injury residuals | 7122
Colitis, ulcerative | 7323
Conjunctivitis:
Trachomatous | 6017
Other | 6018
Coronary bypass surgery | 7017
Cryptococcosis | 6837
Cushing's syndrome | 7907
Cutaneous manifestations of collagen-vascular diseases | 7821
Cyclitis | 6004
Cystitis, chronic | 7512
Dacryocystitis | 6031
Dermatitis or eczema | 7806
Dermatophytosis | 7813
Desquamative interstitial pneumonitis | 6826
Diabetes:
Insipidus | 7909
Mellitus | 7913
Diaphragm:
Paralysis or paresis | 6840
Rupture | 5324
Diplopia | 6090
Diplopia, limited muscle function, eye | 6092
Disease:
Addison's | 7911
Buerger's | 7115
Chronic obstructive pulmonary disease | 6604
Hodgkin's | 7709
Leprosy (Hansen's) | 6302
Lyme | 6319
Morton's | 5279
Parasitic | 6320
Disfigurement of, head, face or neck | 7800
Dislocated:
Cartilage, semilunar | 5258
Lens, crystalline | 6033
Disseminated intravascular coagulation | 7540
Distomiasis, intestinal or hepatic | 7324
Diverticulitis | 7327
Dysentery, bacillary | 7322
Ectropion | 6020
Embolism, brain | 8007
Emphysema, pulmonary | 6603
Encephalitis, epidemic, chronic | 8000
Endocarditis | 7001
Endometriosis | 7629
Enteritis, chronic | 7325
Enterocolitis, chronic | 7326
Entropion | 6021
Eosinophilic granuloma of lung | 6828
Epididymo-orchitis | 7525
Epilepsies:
Diencephalic | 8913
Grand mal | 8910
Jacksonian and focal motor or sensory | 8912
Petit mal | 8911
Psychomotor | 8914
Epiphora | 6025
Erythema multiforme | 7827
Erythromelalgia | 7119
Esophagus:
Diverticulum | 7205
Spasm | 7204
Stricture | 7203
Exfoliative dermatitis | 7817
Fallopian tube | 7614
Fever:
Relapsing | 6308
Rheumatic | 6309
Fibrosis of lung, diffuse interstitial | 6825
Fibromyalgia | 5025
Fistula in ano | 7335
Fistula:
Rectovaginal | 7624
Urethrovaginal | 7625
Flatfoot, acquired | 5276
Gastritis, hypertrophic | 7307
Genu recurvatum | 5263
Glaucoma:
Congestive or inflammatory | 6012
Simple, primary, noncongestive | 6013
Glomerulonephritis | 7536
Gout | 5017
Hallux:
Rigidus | 5281
Valgus | 5280
Hammer toe | 5282
Heart valve replacement | 7016
Hematomyelia | 8012
Hemorrhage:
Brain | 8009
Intra-ocular | 6007
Hemorrhoids | 7336
Hepatitis C | 7354
Hernia:
Femoral | 7340
Hiatal | 7346
Inguinal | 7338
Muscle | 5326
Ventral | 7339
Hip:
Degenerative arthritis | 5242
Flail joint | 5254
Histoplasmosis | 6834
HIV-Related Illness | 6351
Hodgkin's disease | 7709
Hydrarthrosis, intermittent | 5018
Hydronephrosis | 7509
Hyperaldosteronism | 7917
Hyperhidrosis | 7832
Hyperparathyroidism | 7904
Hyperpituitarism | 7916
Hypersensitivity | 6831
Hypertensive:
Heart disease | 7007
Vascular disease | 7101
Hyperthyroid heart disease | 7008
Hyperthyroidism | 7900
Hypoparathyroidism | 7905
Hypothyroidism | 7903
Impairment of:
Humerus | 5202
Clavicle or scapula | 5203
Elbow | 5209
Thigh | 5253
Femur | 5255
Knee, other | 5257
Field vision | 6080
Tibia and fibula | 5262
Rectum & anus | 7332
Ulna | 5211
Implantable cardiac pacemakers | 7018
Infections of the skin | 7820
Injury:
Bladder | 7517
Eye, unhealed | 6009
Foot | 5284
Gall bladder | 7317
Lips | 7201
Liver, residuals | 7311
Mouth | 7200
Muscle:
Facial | 5325
Group I Function: Upward rotation of scapula | 5301
Group II Function: Depression of arm | 5302
Group III Function: Elevation and abduction of arm | 5303
Group IV Function: Stabilization of shoulder | 5304
Group V Function: Elbow supination | 5305
Group VI Function: Extension of elbow | 5306
Group VII Function: Flexion of wrist and fingers | 5307
Group VIII Function: Extension of wrist, fingers, thumb | 5308
Group IX Function: Forearm muscles | 5309
Group X Function: Movement of forefoot and toes | 5310
Group XI Function: Propulsion of foot | 5311
Group XII Function: Dorsiflexion | 5312
Group XIII Function: Extension of hip and flexion of knee | 5313
Group XIV Function: Extension of knee | 5314
Group XV Function: Adduction of hip | 5315
Group XVI Function: Flexion of hip | 5316
Group XVII Function: Extension of hip | 5317
Group XVIII Function: Outward rotation of thigh | 5318
Group XIX Function: Abdominal wall and lower thorax | 5319
Group XX Function: Postural support of body | 5320
Group XXI Function: Respiration | 5321
Group XXII Function: Rotary and forward movements, head | 5322
Group XXIII Function: Movements of head | 5323
Pharynx | 6521
Sacroiliac | 5236
Spinal cord | 6841
Stomach, residuals of | 7310
Iritis | 6003
Interstitial nephritis | 7537
Intervertebral disc syndrome | 5243
Intestine, fistula of | 7330
Irritable colon syndrome | 7319
Keratinization, diseases of | 7824
Keratitis | 6001
Keratoconus | 6035
Kidney:
Abscess | 7501
Cystic diseases | 7533
Removal | 7500
Transplant | 7531
Tuberculosis | 7505
Kyphoscoliosis, pectus excavatum / carinatum | 6842
Lagophthalmos | 6022
Laryngectomy | 6518
Laryngitis:
Tuberculous | 6515
Chronic | 6516
Larynx, stenosis of | 6520
Leishmaniasis:
American (New World) | 7807
Old World | 7808
Leprosy (Hansen's Disease) | 6302
Leukemia | 7703
Limitation of extension:
Forearm | 5207
Leg | 5261
Radius | 5212
Supination and pronation | 5213
Thigh | 5251
Limitation of extension and flexion:
Forearm | 5208
Limitation of flexion:
Forearm | 5206
Leg | 5260
Thigh | 5252
Limitation of motion:
Ankle | 5271
Arm | 5201
Index or long finger | 5229
Ring or little finger | 5230
Temporomandibular articulation | 9905
Thumb | 5228
Wrist, limitation of motion | 5215
Liver:
Disease, chronic, without cirrhosis | 7345
Transplant | 7351
Cirrhosis | 7312
Loss of:
Auricle | 6207
Condyloid process | 9908
Coronoid process | 9909
Eyebrows | 6023
Eyelashes | 6024
Eyelids | 6032
Mandible:
One-half | 9902
Complete | 9901
Maxilla:
More than half | 9914
Less than half | 9915
Nose, part of, or scars | 6504
Palate, hard:
Half or more | 9911
Less than half | 9912
Ramus:
Whole or part | 9906
Less than one-half | 9907
Skull, part of | 5296
Smell, sense of | 6275
Taste, sense of | 6276
Teeth, loss of | 9913
Tongue, loss of whole or part | 7202
Loss of use of:
Both feet | 5110
Both hands | 5109
Foot | 5167
Hand | 5125
One hand and one foot | 5111
Lumbosacral strain | 5237
Lupus:
Erythematosus | 6350
Erythematosus, discoid | 7809
Lyme disease | 6319
Lymphatic filariasis | 6305
Malaria | 6304
Malignant melanoma | 7833
Malunion:
Mandible | 9904
Os calcis or astragalus | 5273
Maxilla, malunion or nonunion | 9916
Melioidosis | 6318
Meniere's syndrome | 6205
Meningitis, cerebrospinal, epidemic | 8019
Mental disorders:
Anxiety disorders:
Generalized anxiety disorder | 9400
Obsessive compulsive disorder | 9404
Other and unspecified neurosis | 9410
Not otherwise specified | 9413
Panic disorder | 9412
Post-traumatic stress disorder | 9411
Specific (simple) phobia | 9403
Chronic adjustment disorder | 9440
Delirium, dementia, amnestic and other cognitive disorders
Alzheimers | 9312
Delirium | 9300
Head trauma | 9304
Infection | 9301
Organic mental disorder | 9327
Other medical conditions | 9326
Unknown etiology | 9310
Vascular dementia | 9305
Dissociative disorders:
Amnesia, fugue, identity disorders | 9416
Depersonalization disorder | 9417
Eating Disorder:
Anorexia nervosa | 9520
Bulimia nervosa | 9521
Mood Disorders:
Bipolar disorder | 9432
Cyclothymic disorder | 9431
Dysthymic disorder | 9433
Major depressive disorder | 9434
Mood disorder not otherwise specified | 9435
Schizophrenia and other psychotic disorders:
Catatonic type | 9202
Delusional disorder | 9208
Disorganized type | 9201
Psychotic disorder | 9210
Paranoid type | 9203
Residual type | 9205
Schizoaffective disorder | 9211
Undifferentiated type | 9204
Somatoform:
Conversion disorder | 9424
Hypochondriasis | 9425
Pain disorder | 9422
Somatization disorder | 9421
Undifferentiated somatoform disorder | 9423
Metatarsalgia | 5279
Migraine | 8100
Morton's disease | 5279
Mucormycosis | 6839
Multiple sclerosis | 8018
Myasthenia gravis | 8025
Myelitis | 8010
Myocardial infarction | 7006
Myositis ossificans | 5023
Myositis | 5021
Narcolepsy | 8108
Neoplasms:
Benign:
Digestive system | 7344
Ear | 6209
Endocrine | 7915
Genitourinary | 7529
Gynecological or breast | 7628
Muscle | 5328
Respiratory | 6820
Skin | 7819
Malignant:
Digestive system | 7343
Ear | 6208
Endocrine | 7914
Genitourinary | 7528
Gynecological or breast | 7627
Muscle | 5327
Respiratory | 6819
Skin | 7818
Nephritis, chronic | 7502
Nephrolithiasis | 7508
Nephrosclerosis, arteriolar | 7507
Neuralgia:
Cranial Nerves
Fifth (trigeminal) | 8405
Seventh (facial) | 8407
Ninth (glossopharyngeal) | 8409
Tenth (pneumogastric, vagus) | 8410
Eleventh (spinal accessory, external branch) | 8411
Twelfth (hypoglossal) | 8412
Peripheral Nerves
Upper radicular group | 8710
Middle radicular group | 8711
Lower radicular group | 8712
All radicular groups | 8713
Musculospiral (radial) | 8714
Median | 8715
Ulnar | 8716
Musculocutaneous | 8717
Circumflex | 8718
Long thoracic | 8719
Sciatic | 8720
External popliteal (common peroneal) | 8721
Musculocutaneous (superficial peroneal) | 8722
Anterior tibial (deep peroneal) | 8723
Internal popliteal (tibial) | 8724
Posterior tibial | 8725
Anterior crural (femoral) | 8726
Internal saphenous | 8727
Obturator | 8728
External cutaneous nerve of thigh | 8729
Ilio-inguinal | 8730
Neuritis:
Cranial nerves
Fifth (trigeminal) | 8305
Seventh (facial) | 8307
Ninth (glossopharyngeal) | 8309
Tenth (pneumogastric, vagus) | 8310
Eleventh (spinal accessory, external branch) | 8311
Twelfth (hypoglossal) | 8312
Optic | 6026
Peripheral Nerves
Upper radicular group | 8610
Middle radicular group | 8611
Lower radicular group | 8612
All radicular groups | 8613
Musculospiral (radial) | 8614
Median | 8615
Ulnar | 8616
Musculocutaneous | 8617
Circumflex | 8618
Long thoracic | 8619
Sciatic | 8620
External popliteal (common peroneal) | 8621
Musculocutaneous (superficial peroneal) | 8622
Anterior tibial (deep peroneal) | 8623
Internal popliteal (tibial) | 8624
Posterior tibial | 8625
Anterior crural (femoral) | 8626
Internal saphenous | 8627
Obturator | 8628
External cutaneous nerve of thigh | 8629
Ilio-inguinal | 8630
Neurogenic bladder | 7542
New growths:
Benign
Bones | 5015
Brain | 8003
Eyeball and adnexa | 6015
Spinal cord | 8022
Malignant
Bones | 5012
Brain | 8002
Eyeball | 6014
Spinal cord | 8021
Nocardiosis | 6823
Non-Hodgkin's lymphoma | 7715
Nonunion:
Mandible | 9903
Radius and ulna | 5210
Nystagmus, central | 6016
Osteitis deformans | 5016
Osteomalacia | 5014
Osteomyelitis | 5000
Osteomyelitis maxilla or mandible | 9900
Osteoporosis, with joint manifestations | 5013
Otitis media:
Externa | 6210
Nonsuppurative | 6201
Suppurative | 6200
Otosclerosis | 6202
Ovaries, atrophy of both | 7620
Ovary:
Disease or injury | 7615
Removal | 7619
Palsy, bulbar | 8005
Pancreatitis | 7347
Papillary necrosis | 7538
Papulosquamous disorders | 7822
Paralysis:
Accommodation | 6030
Agitans | 8004
Paralysis, nerve:
Cranial nerves
Fifth (trigeminal) | 8205
Seventh (facial) | 8207
Ninth (glossopharyngeal) | 8209
Tenth (pneumogastric, vagus) | 8210
Eleventh (spinal accessory, external branch) | 8211
Twelfth (hypoglossal) | 8212
Peripheral Nerves:
Upper radicular group | 8510
Middle radicular group | 8511
Lower radicular group | 8512
All radicular groups | 8513
Musculospiral (radial) | 8514
Median | 8515
Ulnar | 8516
Musculocutaneous | 8517
Circumflex | 8518
Long thoracic | 8519
Sciatic | 8520
External popliteal (common peroneal) | 8521
Musculocutaneous (superficial peroneal) | 8522
Anterior tibial nerve (deep peroneal) | 8523
Internal popliteal (tibial) | 8524
Posterior tibial nerve | 8525
Anterior crural nerve (femoral) | 8526
Internal saphenous | 8527
Obturator | 8528
External cutaneous nerve of thigh | 8529
Ilio-inguinal | 8530
Paramyoclonus multiplex | 8104
Parasitic disease | 6320
Pellagra | 6315
Penis
Deformity, with loss of erectile power | 7522
Removal of glans | 7521
Removal of half or more | 7520
Pericardial adhesions | 7003
Pericarditis | 7002
Periostitis | 5022
Peripheral vestibular disorders | 6204
Peritoneum, adhesions | 7301
Peritonitis | 7331
Pes cavus (Claw foot) acquired | 5278
Pheochromocytoma | 7918
Plague | 6307
Pleural effusion or fibrosis | 6845
Pluriglandular syndrome | 7912
Pneumoconiosis | 6832
Pneumonitis & fibrosis:
Drug-induced | 6829
Radiation-induced | 6830
Poliomyelitis, anterior | 8011
Polycythemia vera | 7704
Postgastrectomy syndromes | 7308
Post-phlebitic syndrome | 7121
Post-surgical residual | 6844
Pregnancy, surgical complications | 7623
Progressive muscular atrophy | 8023
Prostate gland | 7527
Prosthetic Implants:
Ankle replacement | 5056
Elbow replacement | 5052
Hip replacement | 5054
Knee replacement | 5055
Shoulder replacement | 5051
Wrist replacement | 5053
Psoriasis | 7816
Pterygium | 6034
Ptosis | 6019
Pulmonary:
Alveolar proteinosis | 6827
Vascular disease | 6817
Pruritus ani | 7337
Pyelonephritis, chronic | 7504
Raynaud's syndrome | 7117
Rectum:
Rectum & anus, stricture | 7333
Prolapse | 7334
Removal:
Cartilage, semilunar | 5259
Coccyx | 5298
Gall bladder | 7318
Kidney | 7500
Penis glans | 7521
Penis half or more | 7520
Ribs | 5297
Testis | 7524
Ovary | 7619
Uterus | 7618
Uterus and both ovaries | 7617
Renal:
Amyloid disease | 7539
Disease, chronic | 7530
Involvement in systemic diseases | 7541
Tubular disorders | 7532
Retina detachment of | 6008
Retinitis | 6006
Rhinitis:
Allergic or vasomotor | 6522
Bacterial | 6523
Granulomatous | 6524
Resection of intestine:
Large | 7329
Small | 7328
Sarcoidosis | 6846
Scarring alopecia | 7830
Scars:
Deep, other than head, face or neck | 7801
Other | 7805
Retina | 6011
Superficial, other than head, face, or neck | 7802
Superficial, painful | 7804
Superficial, unstable | 7803
Scleritis | 6002
Scotoma | 6081
Septum, nasal, deviation of | 6502
Sickle cell anemia | 7714
Sinusitis:
Ethmoid | 6511
Frontal | 6512
Maxillary | 6513
Pansinusitis | 6510
Sphenoid | 6514
Sleep Apnea Syndrome | 6847
Soft tissue sarcoma:
Muscle, fat, or fibrous connected | 5329
Neurogenic origin | 8540
Vascular origin | 7123
Spinal fusion | 5241
Spinal stenosis | 5238
Spleen, injury of, healed | 7707
Splenectomy | 7706
Spondylolisthesis or segmental instability, spine | 5239
Stomach, stenosis of | 7309
Symblepharon | 6091
Syndromes:
Chronic Fatigue Syndrome (CFS) | 6354
Cushing's | 7907
Meniere's | 6205
Raynaud's | 7117
Sleep Apnea | 6847
Synovitis | 5020
Syphilis | 6310
Syphilis:
Cerebrospinal | 8013
Meningovascular | 8014
Syphilitic heart disease | 7004
Syringomyelia | 8024
Tabes dorsalis | 8015
Tarsal or metatarsal bones | 5283
Tenosynovitis | 5024
Testis:
Atrophy, complete | 7523
Removal | 7524
Thrombocytopenia | 7705
Thrombosis, brain | 8008
Thyroid gland:
Nontoxic adenoma | 7902
Toxic adenoma | 7901
Tic, convulsive | 8103
Tinnitus, recurrent | 6260
Toxic nephropathy | 7535
Traumatic chest wall defect | 6843
Tuberculosis:
Adenitis | 7710
Bones and joints | 5001
Eye | 6010
Kidney | 7505
Luposa (lupus vulgaris) | 7811
Miliary | 6311
Pleurisy, active or inactive | 6732
Pulmonary:
Active, far advanced | 6701
Active, moderately advanced | 6702
Active, minimal | 6703
Active, advancement unspecified | 6704
Active, chronic | 6730
Inactive, chronic | 6731
Inactive, far advanced | 6721
Inactive, moderately advanced | 6722
Inactive, minimal | 6723
Inactive, advancement unspecified | 6724
Tuberculosis luposa (lupus vulgaris) | 7811
Tympanic membrane | 6211
Typhus, scrub | 6317
Ulcer:
Duodenal | 7305
Gastric | 7304
Marginal | 7306
Ureter, stricture of | 7511
Ureterolithiasis | 7510
Urethra
Fistula | 7519
Stricture | 7518
Urticaria | 7825
Uterus:
And both ovaries, removal | 7617
Disease or injury | 7613
Displacement | 7622
Prolapse | 7621
Removal | 7618
Uveitis | 6000
Vagina, disease or injury | 7611
Vagotomy | 7348
Valvular heart disease | 7000
Varicose veins | 7120
Vasculitis, primary cutaneous | 7826
Vertebral fracture or dislocation | 5235
Visceral Leishmaniasis | 6301
Visceroptosis | 7342
Vision: see also Blindness and Loss of
One eye 5/200 (1.5/60), with visual acuity of other eye:
5/200 (1.5/60) | 6071
10/200 (3/60); 15/200 (4.5/60); 20/200 (6/60) | 6072
20/100 (6/30); 20/70 (6/21); 20/50 (6/15) | 6073
20/40 (6/12) | 6074
One eye 10/200 (3/60), with visual acuity of other eye:
10/200 (3/60); 15/200 (4.5/60); 20/200 (6/60) | 6075
20/100 (6/30); 20/70 (6/21); 20/50 (6/15) | 6076
20/40 (6/12) | 6077
One eye 15/200 (4.5/60), with visual acuity of other eye:
15/200 (4.5/60) or 20/200 (6/60) | 6075
20/100 (6/30); 20/70 (6/21); 20/50 (6/15) | 6076
20/40 (6/12) | 6077
One eye 20/200 (6/60), with visual acuity of other eye:
20/200 (6/60) | 6075
20/100 (6/30); 20/70 (6/21); 20/50 (6/15) | 6076
20/40 (6/12) | 6077
One eye 20/100 (6/30), with visual acuity of other eye: and other eye:
20/100 (6/30); 20/70 (6/21); 20/50 (6/15) | 6078
20/40 (6/12) | 6079
One eye 20/70 (6/21), with visual acuity of other eye:
20/70 (6/21) or 20/50 (6/15) | 6078
20/40 (6/12) | 6079
One eye 20/50 (6/15), with visual acuity of other eye:
20/50 (6/15) | 6078
20/40 (6/12) | 6079
Each eye 20/40 (6/12) | 6079
Vitiligo | 7823
Vulva disease or injury of | 7610
Weak foot | 5277

[FR Doc. E7-4914 Filed 3-19-07; 8:45 am]

BILLING CODE 8320-01-P